DEPARTMENT OF AGRICULTURE

Animal and Plant Health Inspection Service

9 CFR Parts 55 and 81

[Docket No. 00-108-9]

Chronic Wasting Disease Herd Certification Program and Interstate Movement of Farmed or Captive Deer, Elk, and Moose

AGENCY: Animal and Plant Health Inspection Service, USDA.

ACTION: Interim final rule; reopening of comment period.

SUMMARY: We are reopening the comment period for our interim final rule that will establish a herd certification program to control chronic wasting disease (CWD) in farmed or captive cervids in the United States. The interim final rule requested comment on our decision that our regulations will set minimum requirements for the interstate movement of farmed or captive cervids but not preempt State or local laws or regulations that are more restrictive than our regulations, except any such laws or regulations that prohibit or further restrict the transit through a State of deer, elk, and moose that are otherwise eligible for interstate movement. This action will allow interested persons additional time to prepare and submit comments on our preemption policy with respect to CWD. This document also indicates that we will consider comments on issues other than our preemption policy for future rulemaking.

DATES: We will consider all comments that we receive on or before August 13, 2012.

ADDRESSES: You may submit comments by either of the following methods:

• Federal eRulemaking Portal: Go to http://www.regulations.gov/#!documentDetail;D=APHIS-2006-0118-0199.

• Postal Mail/Commercial Delivery: Send your comment to Docket No. 00-108-8, Regulatory Analysis and Development, PPD, APHIS, Station 3A-03.8, 4700 River Road Unit 118, Riverdale, MD 20737-1238.

Supporting documents and any comments we receive on this docket may be viewed at http://www.regulations.gov/#!docketDetail;D=APHIS-2006-0118 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Patrice Klein, Senior Staff Veterinarian, National Center for Animal Health Programs, Veterinary Services, APHIS, 4700 River Road Unit 43, Riverdale, MD 20737-1231; (301) 851-3435.

SUPPLEMENTARY INFORMATION: On June 13, 2012, we published in the Federal Register (77 FR 35542-35571, Docket No. 00-108-8) an interim final rule that will establish a herd certification program to control chronic wasting disease (CWD) in farmed or captive cervids in the United States. The interim final rule will be effective on August 13, 2012.

In the interim final rule, we requested comments specifically on our decision not to preempt State and local laws and regulations that are more restrictive than our regulations with respect to CWD, except any such laws or regulations that prohibit or further restrict the transit through a State of deer, elk, and moose that are otherwise eligible for interstate movement. That decision was discussed in section III of the Background section of the interim final rule, under the heading “APHIS' Decision Not to Preempt More Restrictive State Requirements on Farmed or Captive Cervids With Respect to CWD,” beginning on 77 FR 35545.

Comments on our decisions regarding preemption of State and local laws and regulations were required to be received on or before July 13, 2012. We are reopening the comment period on Docket No. 00-108-8 until August 13, 2012. This action will allow interested persons additional time to prepare and submit comments. We will also consider all comments received between July 14, 2012, and the date of this notice.

The interim final rule indicated that we will publish another document in the Federal Register after the comment period closes that will include a discussion of any comments we receive on our preemption policy and any amendments we are making to the rule. We still plan to do this. However, we have received comments on aspects of the interim final rule other than our preemption policy. While we will not address these comments in our document discussing our preemption policy, we will consider these comments to determine whether future rulemaking may be necessary, and we encourage commenters to address any aspect of the interim final rule that they wish to.

Authority: 7 U.S.C. 8301-8317; 7 CFR 2.22, 2.80, and 371.4.

Done in Washington, DC, this 16th day of July 2012.
Kevin Shea,
Acting Administrator, Animal and Plant Health Inspection Service.

[FR Doc. 2012-17726 Filed 7-19-12; 8:45 am]

BILLING CODE 3410-34-P